SECURITIES AND EXCHANGE COMMISSION

[File No. 500-1]

In the Matter of DJSP Enterprises, Inc.; Order of Suspension of Trading

August 12, 2015.

It appears to the Securities and Exchange Commission (“Commission”) that there is a lack of current and accurate information concerning the securities of DJSP Enterprises, Inc. (CIK No. 0001436612) (“DJSP”), because there is a lack of adequate and accurate information concerning DJSP's financial statements contained in its Form 20-F filed on April 2, 2010, and in its Forms 6-K furnished on May 28, 2010 and September 22, 2010. DJSP is a British Virgin Islands corporation based in Plantation, Florida with a class of securities that was registered with the Commission pursuant to Section 12(b) of the Securities Exchange Act of 1934 (“Exchange Act”) until June 2011, 90 days after DJSP filed a Form 25 with the Commission voluntary delisting and deregistering its common stock. DJSP's stock is currently quoted on OTC Link, operated by OTC Markets Group, Inc., under the ticker: DJSP.

The Commission is of the opinion that the public interest and the protection of investors require a suspension of trading in the securities of DJSP.

Therefore, it is ordered, pursuant to Section 12(k) of the Exchange Act, that trading in the securities of DJSP Enterprises, Inc. is suspended for the period from 9:30 a.m. EDT on August 12, 2015, through 11:59 p.m. EDT on August 25, 2015.

By the Commission.
Jill M. Peterson,
Assistant Secretary.

[FR Doc. 2015-20185 Filed 8-12-15; 11:15 am]

BILLING CODE 8011-01-P